DEPARTMENT OF ENERGY

Federal Energy Regulatory Commission

[Docket No. CP19-502-000]

Commonwealth LNG, LLC; Notice of Schedule for Environmental Review of the Commonwealth LNG Project

On August 20, 2019, Commonwealth LNG, LLC (Commonwealth) filed an application in Docket No. CP19-502-000 requesting an authorization pursuant to Section 3 of the Natural Gas Act (NGA), and Parts 153 and 380 of the Federal Energy Regulatory Commission's (FERC or Commission) regulations to site, construct, and operate a natural gas liquefaction and export facility and an associated natural gas pipeline in Cameron Parish, Louisiana. The proposed project is known as the Commonwealth LNG Project and would produce up to 8.4 million tonnes per annum (MTPA) of liquefied natural gas (LNG) for export.

On September 3, 2019, the Commission issued its Notice of Application for the Project. Among other things, that notice alerted other agencies issuing federal authorizations of the requirement to complete all necessary reviews and to reach a final decision on the request for a federal authorization within 90 days of the date of issuance of the Commission staff's final Environmental Impact Statement (EIS) for the Commonwealth LNG Project. This instant notice identifies the FERC staff's planned schedule for completion of the final EIS for the Commonwealth LNG Project, which is based on an issuance of the draft EIS in May 2020.

Schedule for Environmental Review

Issuance of Notice of Availability of the final EIS October 2, 2020

90-day Federal Authorization Decision Deadline December 31, 2020

If a schedule change becomes necessary for the final EIS, an additional notice will be provided so that the relevant agencies are kept informed of the Project's progress.

Project Description

Commonwealth proposes to construct and operate the new LNG export facility and accompanying natural gas pipeline on the west side of the Calcasieu Ship Channel at its entrance to the Gulf of Mexico. The LNG export facility would consist of six natural gas liquefaction trains (with nominal liquefaction and production capacities of 1.4 MTPA each), six LNG storage tanks (with storage capacities of 40,000 cubic meters each), and one marine berth capable of accommodating LNG carriers with capacities up to 216,000 cubic meters. Commonwealth would construct a 30-inch-diameter natural gas pipeline from the LNG export facility, extending 3.04 miles north to interconnect with existing natural gas pipelines within Cameron Parish. The Commonwealth LNG Project would require about 165 acres to construct and would occupy about 130 acres during operation.

Background

On August 15, 2017, the Commission staff granted Commonwealth's request to use the FERC's pre-filing environmental review process and assigned the Commonwealth LNG Project Docket No. PF17-8. On February 22, 2018, the Commission issued a Notice of Intent to Prepare an Environmental Impact Statement for the Planned Commonwealth LNG Project, Request for Comments on Environmental Issues, and Notice of Public Scoping Session (NOI).

The NOI was issued during the pre-filing review of the Commonwealth LNG Project and was sent to federal, state, and local government agencies; elected officials; affected landowners; environmental and public interest groups; Native American tribes and regional organizations; commenters and other interested parties; and local libraries and newspapers. Major issues raised during scoping include impacts on wetlands, migratory birds, and migratory bird habitat; impacts on the ecological habitat of surrounding properties; impacts of rerouted storm-surge on surrounding properties; and impacts on recreational boating and fishing. All substantive comments will be addressed in the EIS.

The U.S. Army Corps of Engineers, U.S. Coast Guard, U.S. Department of Energy, U.S. Department of Transportation's Pipeline and Hazardous Materials Safety Administration, U.S. Environmental Protection Agency, U.S. Fish and Wildlife Service, and National Oceanic and Atmospheric Administration's National Marine Fisheries Service are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Commonwealth LNG Project is available from the Commission's Office of External Affairs at (866) 208-FERC or on the FERC website (www.ferc.gov). Using the “eLibrary” link, select “General Search” from the eLibrary menu, enter the selected date range and “Docket Number” excluding the last three digits (i.e., CP19-502), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 15, 2019.
Kimberly D. Bose,
Secretary.

[FR Doc. 2019-22887 Filed 10-18-19; 8:45 am]

BILLING CODE 6717-01-P